DEPARTMENT OF EDUCATION

Office of English Language Acquisition, Language Enhancement, and Academic Achievement for Limited English Proficient Students

ACTION: Notice inviting applications for new awards for FY 2006; Correction.

SUMMARY: On December 7, 2005, we published in the Federal Register (70 FR 72791) a notice inviting applications for new awards for FY 2006 for the Native American and Alaska Native Children in School Program under section 3112 of Title III of the Elementary and Secondary Education Act of 1965 (ESEA), as amended by the No Child Left Behind Act of 2001 (Pub. L. 107-110)(NCLB). The notice incorrectly specified that applications would be available on December 5, 2005.

On page 72791, third column, and page 72792, third column, the date listed under Applications Available is corrected to read “December 7, 2005”.

FOR FURTHER INFORMATION CONTACT: Trini Torres, U.S. Department of Education, 400 Maryland Avenue, SW., room 10082, Potomac Center Plaza, Washington, DC 20202-2600. Telephone: (202) 245-7134.

If you use a telecommunications device for the deaf (TTD), you may call the Federal Relay Service (FRS) at 1-800-877-8339.

Individuals with disabilities may obtain this document in an alternative format (e.g., Braille, large print, audiotape, or computer diskette) by contacting the individual listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: December 12, 2005.
Kathleen Leos,
Assistant Deputy Secretary and Director,Office of English Language Acquisition, Language Enhancement, and Academic Achievement for Limited English Proficient Students.

[FR Doc. 05-24167 Filed 12-15-05; 8:45 am]

BILLING CODE 4000-01-P